DEPARTMENT OF TRANSPORTATION

National Highway Traffic Safety Administration

[Docket No. NHTSA-2007-28934]

Public Comment on Educational Messages To Improve Use of Child Restraint Systems

AGENCY: National Highway Traffic Safety Administration (NHTSA), Department of Transportation (DOT).

ACTION: Request for comments.

SUMMARY: NHTSA is working with representatives of the child restraint and automobile manufacturers and child passenger safety advocacy groups to identify common awareness messages that could be used by manufacturers, advocates and others to inform parents or caregivers about the importance of correct use of the Lower Anchors and Tethers for Children (LATCH) system. This notice presents proposed messages and solicits public comment on their suitability.

DATES: Written comments may be submitted to the agency and must be received no later than August 30, 2007.

FOR FURTHER INFORMATION CONTACT: Jeffrey Michael, Ed.D., Director of the Office of Impaired Driving and Occupant Protection, 202-366-4299 (jeff.michael@dot.gov), NHTSA, NTI-110, 1200 New Jersey Avenue, SE., Washington, DC 20590.

ADDRESSES: Written comments must refer to the docket number of this Notice and be submitted by any of the following methods:

• Web site: http://dms.dot.gov. Follow the instructions for submitting comments on the DOT electronic docket site.

• Fax: 1-202-493-2251.

• Mail: Docket Management Facility; U.S. DOT, 1200 New Jersey Avenue, SE., Room W12-140, Washington, DC 20590.

• Hand Delivery: Room W12-140, 1200 New Jersey Avenue, SE., Washington, DC, between 9 a.m. and 5 p.m., Monday through Friday, except Federal holidays.

• Federal eRulemaking Portal: Go to http://www.regulations.gov. Follow the online instructions for submitting comments.

You may call Docket Management at 202-366-9324 and visit the Docket from 10 a.m. to 5 p.m., Monday through Friday.

Note that all comments received will be posted without change to http://dms.dot.gov, including any personal information provided. Please see the Privacy Act discussion under the heading “How do I prepare and submit comments?” at the end of this notice. Please see also the discussion there of confidential business information.

SUPPLEMENTARY INFORMATION:

I. Background

The LATCH system was introduced in 1999 as a means to standardize installation of child restraint devices in motor vehicles without the use of vehicle seat belt systems. In March 1999, NHTSA issued a final rule establishing Federal Motor Vehicle Safety Standard (FMVSS) No. 225, “Child Restraint Anchorage Systems,” requiring motor vehicle manufacturers to install a specified LATCH attachment system for child restraints (64 CFR 10786; March 5, 1999) in nearly all new passenger vehicles. In September 1999, the Agency amended FMVSS 213, Child Restraint Systems, in a complementary manner, requiring the provision of LATCH attachment points including upper tether attachments. A phase-in period was specified for both the vehicle and child restraint requirements with full implementation in specified applications by 2002.

To assess progress with implementation and consumer use, NHTSA conducted a detailed survey of LATCH system use from April to October 2005. Findings from the survey were published in December 2006 (“Child Restraint Use Survey—LATCH Use and Misuse,” available at http://dms.dot.gov under Document number NHTSA-2006-26735-2; also available online at http://www.nhtsa.gov). The survey examined whether drivers of LATCH-equipped vehicles used available LATCH attachments to secure their child restraints to the vehicle, and if so, whether they properly installed the restraints. The survey recorded the make/model and the type of restraint installed in each seating position, and details on both the vehicle and child restraint equipment available in that seating position. In addition, information was gathered about the drivers’ knowledge of the LATCH system, opinions on its ease of use, and reasons for its use or nonuse.

Findings from the survey indicate that while the users of the LATCH system correctly install the child restraint system more frequently than those observed in previous surveys using non-LATCH restraints and vehicles, a number of misuse problems still exist.

On February 8, 2007, NHTSA convened a public meeting to discuss findings from the NHTSA survey along with information on use of LATCH systems available from auto and child restraint manufacturers, child passenger safety advocacy organizations and others. A transcript of this meeting is available under Document number NHTSA-2007-26833-23 or by visiting NHTSA Docket Management in person at Room W12-140, 1200 New Jersey Avenue, SE., Washington, DC from 10 a.m. to 5 p.m., Monday through Friday, or by Internet through the Docket Management System Web page of the Department of Transportation (http://dms.dot.gov).

As a result of this meeting, NHTSA is working with representatives of the child restraint and automobile manufacturers and child passenger safety advocacy groups to identify common awareness messages that could be used by manufacturers, advocates and others to inform parents or caregivers about the importance of correct use of the Lower Anchors and Tethers for Children (LATCH) system.

Between March and July 2007 this working group of representatives met by conference call and in person to discuss awareness goals and to identify several message variations that were subsequently tested for effectiveness in focus groups of parents and caregivers. The messages were selected with the assumption that they would supplement rather than supplant existing and additional LATCH educational and instructional communications from individual manufacturers, government agencies and advocacy organizations. An advertising agency was enlisted by NHTSA to assist with development of appropriate messages.

The message and graphic listed below were those identified by the working group that proved most effective in focus group testing. NHTSA is seeking public comment on the suitability of the message and graphic for use as a supplement to other LATCH education and instruction efforts in a variety of settings to include news periodicals (print and electronic), Web sites, posters, brochures, vehicle owner’s manuals, child restraint manufacturers’ instructions, child restraint packaging, in-store displays, and advertising (print and broadcast).

II. LATCH Awareness Message

Please note that the Federal Register produces its manual in black and white and is void of color.

The illustration above has the following color specifications.

The Color Specs (Coated):

Pantone 123 C

Pantone Process Black C

The Color Specs (Uncoated):

Pantone 109 U

Pantone Process Black U

Public comments will be considered by the working group as they finalize identification of LATCH awareness message(s).

III. Public Participation

How do I prepare and submit comments?

Your comments must be written and in English. To ensure that your comments are correctly filed in the Docket, please include the docket number of this document in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, Room W41-227, 1200 New Jersey Avenue, SE., Washington, DC 20590. Include a cover letter supplying the information specified in our confidential business information regulation (49 CFR part 512).

In addition, send two copies from which you have deleted the claimed confidential business information to:

Docket Management, Room W12-140, 1200 New Jersey Avenue, SE., Washington, DC 20590, or submit them electronically, in the manner described at the beginning of this notice.

Will the agency consider late comments?

We will consider all comments that Docket Management receives before the close of business on the comment closing date indicated above under DATES. To the extent possible, we will also consider comments that Docket Management receives after that date.

Please note that even after the comment closing date, we will continue to file relevant information in the docket as it becomes available. Further, some people may submit late comments. Accordingly, we recommend that you periodically check the docket for new material.

How can I read the comments submitted by other people?

You may read the comments by visiting Docket Management in person at Room W12-140, 1200 New Jersey Avenue, SE., Washington, DC from 10 a.m. to 5 p.m., Monday through Friday.

You may also see the comments on the Internet by taking the following steps:

• Go to the Docket Management System (DMS) Web page of the Department of Transportation (http://dms.dot.gov).

• On that page, click on “Simple Search.”

• On the next page (http://dms.dot.gov/search/searchFormSimple.cfm/) type in the five-digit docket number shown at the beginning of this notice. Click on “Search.”

• On the next page, which contains docket summary information for the docket you selected, click on the desired comments. You may also download the comments.

Authority: 49 U.S.C. 30111, 30168; delegation of authority at 49 CFR 1.50 and 501.8.

Dated: August 10, 2007.
Nicole R. Nason,
Administrator.

[FR Doc. 07-4022 Filed 8-15-07; 8:54 am]

BILLING CODE 4910-59-P